DEPARTMENT OF STATE

[Public Notice 6394]

Culturally Significant Objects Imported for Exhibition Determinations: “Chagall and the Artists of the Russian Jewish Theater, 1919-1949”

ACTION: Notice, Correction.

SUMMARY: On September 5, 2008, notice was published on page 51875 of the Federal Register (volume 73, number 173) of determinations made by the Department of State pertaining to the exhibit, “Chagall and the Artists of the Russian Jewish Theater, 1919-1949.” The referenced notice is corrected as to an additional object to be included in the exhibition. Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236 of October 19, 1999, as amended, and Delegation of Authority No. 257 of April 15, 2003 [68 FR 19875], I hereby determine that the additional object to be included in the exhibition “Chagall and the Artists of the Russian Jewish Theater, 1919-1949”, imported from abroad for temporary exhibition within the United States, is of cultural significance. The additional object is imported pursuant to a loan agreement with the foreign owners or custodians. I also determine that the exhibition or display of the exhibit object at The Jewish Museum, New York, New York, from on or about November 9, 2008, until on or about March 22, 2009; and at The Contemporary Jewish Museum, San Francisco, California, from on or about April 19, 2009 until on or about September 7, 2009; and at possible additional exhibitions or venues yet to be determined, is in the national interest. Public Notice of these Determinations is ordered to be published in the Federal Register.

FOR FURTHER INFORMATION CONTACT: For further information, including a list of the exhibit objects, contact Wolodymyr Sulzynsky, Attorney-Adviser, Office of the Legal Adviser, U.S. Department of State (telephone: (202) 453-8050). The address is U.S. Department of State, SA-44, 301 4th Street, SW., Room 700, Washington, DC 20547-0001.

Dated: September 25, 2008.
C. Miller Crouch,
Principal Deputy Assistant Secretary for Educational and Cultural Affairs, Department of State.

[FR Doc. E8-24463 Filed 10-14-08; 8:45 am]

BILLING CODE 4710-05-P